DEPARTMENT OF TRANSPORTATION

Federal Aviation Administration

14 CFR Part 39

[Docket No. FAA-2008-1210; Directorate Identifier 2008-CE-047-AD]

RIN 2120-AA64

Airworthiness Directives; Avidyne Corporation Primary Flight Displays (Part Numbers 700-00006-000, -001, -002, -003, and -100)

AGENCY: Federal Aviation Administration (FAA), Department of Transportation (DOT).

ACTION: Notice of proposed rulemaking (NPRM).

SUMMARY: We propose to supersede Airworthiness Directive (AD) 2008-06-28 R1, which applies to certain Avidyne Corporation (Avidyne) Primary Flight Displays (PFDs) (part numbers (P/Ns) 700-00006-000, -001, -002, -003, and -100) that are installed on airplanes. AD 2008-06-28 R1 currently requires you to do a check of the maintenance records and inspection of the PFD (if necessary) to determine if an affected serial number PFD is installed and incorporate (if necessary) operational limitations. Since we issued AD 2008-06-28 R1, Avidyne developed a factory service procedure that will correct the problems on these Avidyne PFDs and also factory serviced certain serial number PFDs. Consequently, this proposed AD would retain the actions from AD 2008-06-28 R1 until the affected PFD is factory serviced; add the actions of a label or marking check, an air data system performance verification test, and (if necessary) replacement of the PFD and factory servicing of the failed PFD; and reduce the serial number applicability from that of AD 2008-06-28 R1. We are proposing this AD to prevent certain conditions from existing when PFDs display incorrect attitude, altitude, and airspeed information. This could result in airspeed/altitude mismanagement or spatial disorientation of the pilot with consequent loss of airplane control, inadequate traffic separation, or controlled flight into terrain.

DATES: We must receive comments on this proposed AD by January 13, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Avidyne Corporation, 55 Old Bedford Road, Lincoln, MA 01773; telephone: (781) 402-7400; fax: (781) 402-7599.

FOR FURTHER INFORMATION CONTACT: Solomon Hecht, Aerospace Engineer, ANE-150, Boston Aircraft Certification Office, 12 New England Executive Park, Burlington, Massachusetts 01803, phone: (781) 238-7159, fax: (781) 238-7170.

SUPPLEMENTARY INFORMATION:

Comments Invited

We invite you to send any written relevant data, views, or arguments regarding this proposed AD. Send your comments to an address listed under the ADDRESSES section. Include the docket number, “FAA-2008-1210; Directorate Identifier 2008-CE-047-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

Several field reports of PFDs displaying incorrect altitude and airspeed information caused us to issue AD 2008-06-28, Amendment 39-15440 (73 FR 15862, March 26, 2008). AD 2008-06-28 required the following on Avidyne PFDs (P/Ns 700-00006-000, -001, -002, -003, and -100) that are installed on airplanes:

• Checking of the maintenance records and inspection of the PFD (if necessary) to determine if an affected serial number PFD is installed; and

• If an affected serial number PFD is installed, incorporating information that limits operation when certain conditions for the PFD or backup instruments exist.

An incorrect serial number (SN) listed in AD 2008-06-28 caused us to issue AD 2008-06-28 R1, Amendment 39-15468 (73 FR 19963, April 14, 2008). AD 2008-06-28 R1 corrects the incorrect SN and retains the actions of AD-2008-06-28.

Since we issued AD 2008-06-28 R1, Avidyne has prepared a factory service procedure that will correct the possible incorrect altitude and airspeed information displayed on these Avidyne PFDs and received approval for a corresponding alternative method of compliance (AMOC) to modify certain serial number PFDs at the factory, eliminating the unsafe condition in these units.

This proposed AD retains the actions from AD 2008-06-28 R1 until the factory servicing is done. This proposed AD would require you to inspect for a label marked “Deviation 08-19A” on the exterior of the PFD near the TSO label or a “MOD 52” marking; if the label or mark is not present, do the PFD air data system performance verification test; if the PFD passes the test, remove the operational limitations requirement; or if the PFD does not pass the test, remove the PFD, have the PFD factory serviced, install a PFD that has passed the air data system verification test or has been factory serviced (PFD bears a label marked “Deviation 08-19A” on the exterior of the PFD near the TSO label; or a “MOD 52” marking); and remove the operational limitations requirement. This proposed AD also reduces the serial number applicability from that of AD 2008-06-28 R1 due to Avidyne modifying PFDs at the factory.

This condition, if not corrected, could result in airspeed/altitude mismanagement or spatial disorientation of the pilot with consequent loss of airplane control, inadequate traffic separation, or controlled flight into terrain.

Relevant Service Information

We have reviewed Avidyne Service Bulletin No. 601-00006-096, Revision 1, dated July 14, 2008.

The service information describes procedures for:

• Identifying possible Avidyne PFDs by serial number;

• Identifying PFDs that have already been serviced;

• Doing Avidyne PFD air data system performance verification test procedures; and

• Having any Avidyne PFD that has not passed the air data system verification test or has not been factory serviced (PFD does not bears a label marked “Deviation 08-19A” on the exterior of the PFD near the TSO label; or a “MOD 52” marking) serviced.

FAA's Determination and Requirements of the Proposed AD

We are proposing this AD because we evaluated all information and determined the unsafe condition described previously is likely to exist or develop on other products of the same type design. This proposed AD would supersede AD 2008-06-28 R1 with a new AD that would retain the actions from AD 2008-06-28 R1 until the affected PFD is factory serviced; add the actions of a label or marking check, an air data system performance verification test, and (if necessary) replacement of the PFD and factory servicing of the failed PFD; and reduce the serial number applicability from that of AD 2008-06-28 R1. This proposed AD would require you to use the service information described previously to perform these actions.

Differences Between This Proposed AD and the Service Information

The proposed AD includes terminating action for the requirement of AD 2008-06-28 R1 to incorporate information that limits operation when certain conditions for the PFD or backup instruments exist. The requirements of this proposed AD, if adopted as a final rule, would take precedence over the provisions in the service information.

Costs of Compliance

We estimate that this proposed AD would affect 384 airplanes in the U.S. registry.

We estimate the following costs to do the proposed serial number determination:

Labor cost | Parts cost | Total cost per airplane | Total cost on U.S. operators
1 work-hour × $80 per hour = $80 | Not applicable | $80 | $30,720

We estimate the following costs to do any necessary test and replacement that would be required based on the results of the proposed test. We have no way of determining the number of airplanes that may need this test and replacement:

Labor cost | Parts cost | Total cost per airplane
4 work-hours × $80 per hour = $320 | Not applicable | $320

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-06-28 R1, Amendment 39-15468 (73 FR 19963, April 14, 2008), and adding the following new AD:

Avidyne Corporation: Docket No. FAA-2008-1210; Directorate Identifier 2008-CE-047-AD.

Comments Due Date

(a) We must receive comments on this airworthiness directive (AD) action by January 13, 2009.

Affected ADs

(b) This AD supersedes AD 2008-06-28 R1, Amendment 39-15440.

Applicability

(c) This AD applies to Avidyne Corporation (Avidyne) Primary Flight Displays (PFDs) (part numbers (P/Ns) 700-00006-000, 700-00006-001, 700-00006-002, 700-00006-003, and 700-00006-100 with any serial number listed in Avidyne Service Bulletin No. 601-00006-096, Revision 1, dated July 14, 2008) that are installed on, but not limited to the airplanes below that are certificated in any category. Paragraph (d) of this AD gives procedures to determine if an affected serial number is installed.

(1) Adam Aircraft Model A500;

(2) Cessna Aircraft Company Model 441 (STEC Alliant Supplemental Type Certificate (STC) No. SA09547AC-D incorporated);

(3) Cessna Aircraft Company Models LC42-550FG and LC41-550FG (Columbia Aircraft Manufacturing and The Lancair Company previously held the type certificate for these airplanes);

(4) Cirrus Design Corporation Models SR20 and SR22;

(5) Diamond Aircraft Industries GmbH Model DA 40;

(6) Hawker Beechcraft Corporation Model E90 (STEC Alliant STC No. SA09545AC-D incorporated);

(7) Hawker Beechcraft Corporation Model 200 series (STEC Alliant STC No. SA09543AC-D incorporated); and

(8) Piper Aircraft, Inc. Models PA-28-161, PA-28-181, PA-28R-201, PA-32R-301 (HP), PA-32R-301T, PA-32-301FT, PA-32-301XTC, PA-34-220T, PA-44-180, PA-46-350P, PA-46R-350T, and PA-46-500TP.

(d) If you have one of the affected part number PFDs installed on your airplane, you must be able to positively show that it is not one of the affected serial numbers or comply with paragraph (f), all subparagraphs, as applicable in this AD. You must follow the actions in the paragraphs below to determine what actions of paragraph (f) apply. Under 14 CFR 43.7, the owner/operator holding at least a private pilot certificate is allowed to do the check in paragraph (d)(1) of this AD. All other actions must be done by a certificated mechanic, unless noted differently.

(1) Do a logbook check of aircraft records (previously referred to in AD 2008-06-28 R1 as “maintenance records”) to determine if any PFD (P/Ns 700-00006-000, 700-00006-001, 700-00006-002, 700-00006-003, or 700-00006-100) with any affected serial number listed in Avidyne Service Bulletin No. 601-00006-096, Revision 1, dated July 14, 2008, is installed.

(i) If, as a result of the logbook check, you positively identify that the PFD installed does not have a serial number affected by this AD, then only paragraph (f)(5) of this AD applies to you.

(ii) If, as a result of the logbook check, you cannot positively identify the serial number of the PFD, do the visual inspection required in paragraph (d)(2) of this AD.

(iii) If, as a result of the logbook check, you find any PFD installed with an affected serial number, do the actions required by paragraph (f) of this AD, including all subparagraphs as applicable.

(2) If, as a result of the above logbook check, you cannot positively identify the serial number of the PFD, visually inspect any PFD (P/Ns 700-00006-000, 700-00006-001, 700-00006-002, 700-00006-003, or 700-00006-100) for any affected serial number listed in Avidyne Service Bulletin No. 601-00006-096, Revision 1, dated July 14, 2008.

(i) If, as a result of this visual inspection, you positively identify that the PFD installed does not have a serial number affected by this AD, then only paragraph (f)(5) of this AD applies to you.

(ii) If, as a result of this visual inspection, you identify that the PDF installed does have a serial number affected by this AD, do the actions required in paragraph (f) of this AD, including all subparagraphs as applicable.

Unsafe Condition

(e) This AD results from several field reports of Avidyne PFDs displaying incorrect altitude and airspeed information and Avidyne preparing a factory service procedure that will correct the possible incorrect altitude and airspeed information displayed. We are issuing this AD to prevent certain conditions from existing when PFDs display incorrect attitude, altitude, and airspeed information. This could result in airspeed/altitude mismanagement or spatial disorientation of the pilot with consequent loss of airplane control, inadequate traffic separation, or controlled flight into terrain.

Compliance

(f) To address this problem, you must do the following, unless already done:

Actions | Compliance | Procedures
(1) Incorporate the operational limitations below by doing whichever of the following applies: (i) For airplanes with an airplane flight manual (AFM), pilot's operating handbook (POH), or airplane flight manual supplement (AFMS), incorporate the language in the Appendix of this AD into the Limitations section of the AFM, POH, or AFMS (ii) For airplanes without an AFM, POH, or AFMS, do the following: (A) Incorporate the language in the Appendix of this AD into your aircraft maintenance records; and (B) Fabricate a placard (using at least 1/8-inch letters) with the following words and install the placard on the instrument panel within the pilot's clear view: “THIS AD AND SUPERSEDED AD 2008-06-28 R1 CONTAIN LIMITATIONS REGARDING AVIDYNE PRIMARY FLIGHT DISPLAYS (PFD) AND REQUIRED INCORPORATION OF THESE LIMITATIONS INTO THE AIRCRAFT RECORDS. YOU MUST FOLLOW THESE LIMITATIONS.” | Prior to further flight after the effective date of this AD | Under 14 CFR 43.7, the owner/operator holding at least a private pilot certificate is allowed to insert the information into the AFM, POH, AFMS, or maintenance records as required in paragraph (f)(1)(i) or (f)(1)(ii)(A) of this AD and fabricate the placard required in paragraph (f)(1)(ii)(B) of this AD. Make an entry into the aircraft records showing compliance with these portions of the AD in accordance with 14 CFR 43.9.
(2) Inspect for a label marked “Deviation 08-19A” on the exterior of the PFD near the TSO label or a “MOD 52” marking. (i) If the label marked “Deviation 08-19A” or “MOD 52” marking is present, then the factory servicing required by paragraph (f)(4) of this AD is incorporated. Remove the limitations required by paragraph (f)(1) of this AD and AD 2008-06-28 R1. Except for the actions of paragraph (f)(5) of this AD, no further action is required by this AD. (ii) If the label or mark is not present, do the PFD air data system performance verification test in Section 3.3 of the referenced service bulletin. | Within the next 15 days after the effective date of this AD | Follow Avidyne Service Bulletin No. 601-00006-096, Revision 1, dated July 14, 2008.
(3) If the PFD passes the test required in paragraph (f)(2)(ii) of this AD, remove the limitations required by paragraph (f)(1) of this AD and AD 2008-06-28 R1. Except for the actions of paragraph (f)(5) of this AD, no further action is required by this AD. | Within the next 15 days after the effective date of this AD | Follow Avidyne Service Bulletin No. 601-00006-096, Revision 1, dated July 14, 2008.
(4) If the PFD does not pass the test required in paragraph (f)(1)(ii) of this AD, do the following: (i) Remove the PFD, have the PFD factory serviced, and install a PFD that has passed the air data system verification test or has been factory serviced (PFD bears a label marked “Deviation 08-19A” on the exterior of the PFD near the TSO label or a “MOD 52” marking); (ii) Remove the limitations required by paragraph (f)(1) of this AD and AD 2008-06-28 R1; and (iii) Except for the actions of paragraph (f)(5) of this AD, no further action is required by this AD. | Within the next 15 hours TIS after the effective date of this AD | Follow Avidyne Service Bulletin No. 601-00006-096, Revision 1, dated July 14, 2008.
(5) Do not install any PFD (P/Ns 700-00006-000, 700-00006-001, 700-00006-002, 700-00006-003, or 700-00006-100) with any affected serial number listed in Avidyne Service Bulletin No. 601-00006-096, Revision 1, dated July 14, 2008, unless it has passed the air data system verification test or has been factory serviced (PFD bears a label marked “Deviation 08-19A” on the exterior of the PFD near the TSO label or a “MOD 52” marking). | As of the effective date of this AD | Not applicable.

Alternative Methods of Compliance (AMOCs)

(g) The Manager, Boston Aircraft Certification Office, FAA, has the authority to approve AMOCs for this AD, if requested using the procedures found in 14 CFR 39.19. Send information to ATTN: Solomon Hecht, Aerospace Engineer, ANE-150, Boston Aircraft Certification Office, 12 New England Executive Park, Burlington, Massachusetts 01803, phone: (781) 238-7159, fax: (781) 238-7170. Before using any approved AMOC on any airplane to which the AMOC applies, notify your appropriate principal inspector (PI) in the FAA Flight Standards District Office (FSDO), or lacking a PI, your local FSDO.

(h) AMOCs approved for AD 2008-06-28 R1 are approved for this AD.

Related Information

(i) To get copies of the service information referenced in this AD, contact Avidyne Corporation, 55 Old Bedford Road, Lincoln, MA 01773; telephone: (781) 402-7400; fax: (781) 402-7599. To view the AD docket, go to U.S. Department of Transportation, Docket Operations, M-30, West Building Ground Floor, Room W12-140, 1200 New Jersey Avenue, SE., Washington, DC 20590, or on the Internet at http://www.regulations.gov.

Appendix to Docket No. FAA-2008-1210 Limitations Regarding Avidyne Primary Flight Displays (PFDs)

Before conducting flight operations, pilots must review and be familiar with the Crosscheck Monitor section of the Avidyne Primary Flight Display Pilot's Guide and all limitations contained in the aircraft operating handbook.

As a normal practice, all pilots should be vigilant in conducting proper preflight and in-flight checks of instrument accuracy, including:

• Preflight check of the accuracy of both the primary and backup altimeter against known airfield elevation and against each other.

• Verification of airspeed indications consistent with prevailing conditions at startup, during taxi, and prior to takeoff.

• “Airspeed alive” check and reasonable indications during takeoff roll.

• Maintenance of current altimeter setting in both primary and backup altimeters.

• Cross-check of primary and backup altimeters at each change of altimeter setting and prior to entering instrument meteorological conditions (IMC).

• Cross-check of primary and backup altimeters and validation against other available data, such as glideslope intercept altitude, prior to conducting any instrument approach.

• Periodic cross-checks of primary and backup airspeed indicators, preferably in combination with altimeter cross-checks.

For flight operations under instrument flight rules (IFR) or in conditions in which visual reference to the horizon cannot be reliably maintained (that is IMC, night operations, flight operations over water, in haze or smoke) and the pilot has reasons to suspect that any source (PFD or back-up instruments) of attitude, airspeed, or altitude is not functioning properly, flight under IFR or in these conditions must not be initiated (when condition is determined on the ground) and further flight under IFR or in these conditions is prohibited until equipment is serviced and functioning properly.

Operation of aircraft not equipped with operating backup (or standby) attitude, altimeter, and airspeed indicators that are located where they are readily visible to the pilot is prohibited.

Pilots must frequently scan and crosscheck flight instruments to make sure the information depicted on the PFD correlates and agrees with the information depicted on the backup instruments.

Issued in Kansas City, Missouri, on November 7, 2008.
James E. Jackson,
Acting Manager, Small Airplane Directorate, Aircraft Certification Service.

[FR Doc. E8-27082 Filed 11-13-08; 8:45 am]

BILLING CODE 4910-13-P